DEPARTMENT OF ENERGY

Federal Energy Regulatory Commission

[Docket No. RP00-204-001]

Transcontinental Gas Pipe Line Corporation; Notice of Proposed Changes in FERC Gas Tariff

March 9, 2000.

Take notice that on March 6, 2000 Transcontinental Gas Pipe Line Corporation (Transco) tendered for filing to become part of its FERC Gas Tariff, Third Revised Volume No. 1, Substitute Sixteenth Revised Tariff Sheet No. 27. The proposed effective date of the enclosed tariff sheet is April 1, 2000.

Transco states that the purpose of the instant filing is to supplement Transco's Transmission Electric Power Cost Adjustment Filing of March 1, 2000 (March 1 Filing), which filing inadvertently neglected to revise the Rate Schedule GSS Excess Delivery Charge. In order to reflect the correct rate, Transco is submitting Substitute Sixteenth Revised Tariff Sheet No. 27 to replace the tariff sheet effective April 1, 2000 in the March 1 Filing.

Transco states that it is serving copies of the instant filing to its affected customers, State Commissions and other interested parties.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-6307 Filed 3-14-00; 8:45 am]

BILLING CODE 6717-01-M